SMALL BUSINESS ADMINISTRATION

Region X Regulatory Fairness Board; Public Federal Regulatory Enforcement Fairness Roundtable

The Small Business Administration Region X Regulatory Fairness Board and the SBA Office of the National Ombudsman will hold a Public Roundtable on Thursday, April 4, 2002 at 9:00 a.m. at the Portland Development Commission, 1900 SW 4th Avenue, Room 2500-A, Portland, OR 97201, phone (503) 823-3210, fax (503) 823-3368, to provide small business owners and representatives of trade associations with an opportunity to share information concerning the federal regulatory enforcement and compliance environment.

Anyone wishing to attend or to make a presentation must contact Don Matsuda in writing or by fax, in order to be put on the agenda. Don Matsuda, U.S. Small Business Administration, Portland District Office, 1515 S. W. Fifth Avenue, Suite 1050, Portland, OR 97201, phone (503) 326-5221, fax (503) 326-5103, e-mail: donald.matsuda@sba.gov.

For more information, see our Web site at www.sba.gov/ombudsman.

Dated: March 19, 2002.
Michael L. Barrera,
National Ombudsman.

[FR Doc. 02-7150 Filed 3-25-02; 8:45 am]

BILLING CODE 8025-01-P